ENVIRONMENTAL PROTECTION AGENCY

[EPA-R09-OAR-2024-0510; FRL-12382-01-R9]

Finding of Failure To Attain by the Attainment Date for the 2010 1-Hour Primary Sulfur Dioxide National Ambient Air Quality Standard; Guam; Piti-Cabras Nonattainment Area

AGENCY: Environmental Protection Agency (EPA).

ACTION: Determination of nonattainment.

SUMMARY: The Environmental Protection Agency (EPA) is determining that the Piti-Cabras, Guam, sulfur dioxide (SO2) nonattainment area (NAA) failed to attain the 2010 1-hour SO2 primary national ambient air quality standard (NAAQS, “standard,” or “2010 SO2 NAAQS”) by the applicable statutory attainment date of April 9, 2023. This determination is based on an analysis of available modeling, emissions data, and information concerning control strategy implementation. This action addresses the EPA's obligation under Clean Air Act (CAA) section 179(c) to determine whether the Piti-Cabras SO2 NAA (“Piti-Cabras area”) attained the 2010 SO2 NAAQS by the April 9, 2023 attainment date.

ADDRESSES: The EPA has established a docket for this action under Docket ID No. EPA-R09-OAR-2024-0510. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Andrew Ledezma, Air Planning Office (ARD-2), EPA Region IX, 75 Hawthorne Street, San Francisco, CA 94105, (415) 972-3985, or by email at Ledezma.Andrew@epa.gov.

SUPPLEMENTARY INFORMATION: Throughout this document, “we,” “us,” and “our” refer to the EPA.

Table of Contents

I. Background

A. The 2010 1-Hour Primary SO4 NAAQS

B. Designations, Classifications, and Attainment Dates for the 2010 SO2 NAAQS

C. Determinations of Attainment by the Attainment Date

II. The EPA's Evaluation and Determination

A. Area Characterization

B. Evaluation of SO2 Modeling, Emissions Data, and Control Strategy Implementation Information

C. Conclusion

III. The EPA's Action

IV. Statutory and Executive Order Review

I. Background

A. The 2010 1-Hour Primary SO2 NAAQS

Under section 109 of the CAA, the EPA has established primary and secondary NAAQS for certain pervasive air pollutants (referred to as “criteria pollutants”) and conducts periodic reviews of the NAAQS to determine whether they should be revised or whether new NAAQS should be established. The primary NAAQS represent ambient air quality standards that the EPA has determined are requisite to protect public health with an adequate margin of safety, while the secondary NAAQS represent ambient air quality standards that the EPA has determined are requisite to protect public welfare from any known or anticipated adverse effects associated with the presence of the air pollutant in the ambient air.

Under the CAA, the EPA must establish a NAAQS for SO2, which is primarily released to the atmosphere through the burning of fossil fuels by power plants and other industrial facilities. SO2 is also emitted from industrial processes, including metal extraction from ore and heavy equipment that burn fuel with a high sulfur content. Short term exposure to SO2 can damage the human respiratory system and increase breathing difficulties. Small children and people with respiratory conditions, such as asthma, are more sensitive to the effects of SO2. Sulfur oxides at high concentrations in ambient air can also react with compounds to form small particulates (fine particulate matter, or “PM2.5”) that can penetrate deeply into the lungs and cause acute health problems and/or chronic diseases. The EPA first established primary SO2 standards in 1971 at 140 parts per billion (ppb) over a 24-hour averaging period and at 30 ppb over an annual averaging period.¹

¹ 36 FR 8186 (April 30, 1971).

On June 22, 2010, the EPA published in the Federal Register a strengthened, primary 1-hour SO2 NAAQS, establishing a new standard at a level of 75 ppb, based on the 3-year average of the annual 99th percentile of daily maximum 1-hour average concentrations of SO2.² The revised SO2 NAAQS provides increased protection of public health. Along with revision of the SO2 NAAQS, the EPA revoked the 1971 primary annual and 24-hour SO2 standards for most areas of the country following area designations under the new NAAQS.³

² 75 FR 35520, codified at 40 CFR 50.17.

³ 75 FR at 35592, codified at 40 CFR 50.4(e).

B. Designations, Classifications, and Attainment Dates for the 2010 SO2 NAAQS

Following promulgation of a new or revised NAAQS, the EPA is required to designate all areas of the country as either “attainment,” “nonattainment,” or “unclassifiable,” pursuant to CAA section 107(d)(1).

On December 21, 2017, the EPA designated as nonattainment six areas in three states and two territories in the third round of SO2 designations.⁴ With that action, the EPA designated as nonattainment the portion of Guam within a 6.074-km radius centered on universal transverse mercator (UTM) easting 249,601.60 meters and UTM northing 1,489,602 meters (UTM zone 55N).⁵ Pursuant to section 192(a) of the CAA, the statutory attainment date for the Piti-Cabras area was established as no later than five years after the effective date of the initial designation, i.e., April 9, 2023.

⁴ 83 FR 1098 (January 9, 2018).

⁵ For designations technical discussions, see EPA's Technical Support Document, Chapter 11, Section 3, 6-26, at https://www.epa.gov/sites/default/files/2017-08/documents/11_guam_so2_rd3-final.pdf, available in the docket for this action.

CAA section 191(a) requires states that contain an area designated nonattainment for the 2010 1-hour primary SO2 NAAQS to develop and submit an NAA state implementation plan (SIP) to the EPA within 18 months of the effective date of an area's designation as nonattainment. For SO2, a NAA SIP submission (also referred to as an attainment plan) must meet the requirements of sections 110, 172(c), 191, and 192 of the CAA, and provide for attainment of the NAAQS by the applicable statutory attainment date, i.e., no later than five years from the effective date of the area's nonattainment designation. The effective date of the Piti-Cabras area nonattainment designation is April 9, 2018, so the attainment plan for the area was due on October 9, 2019. On November 3, 2020, the EPA issued a finding that Guam failed to submit a SIP revision for the Piti-Cabras area; this finding became effective on December 4, 2020.⁶ Guam has not submitted a SIP revision for the Piti-Cabras area.

⁶ 85 FR 69504 (November 3, 2020).

C. Determinations of Attainment by the Attainment Date

Section 179(c)(1) of the CAA requires the EPA to determine whether a NAA attained an applicable standard by the applicable statutory attainment date based on the area's air quality as of the attainment date within six months of the attainment date. Thus, the EPA had a mandatory duty under CAA section 179(c) to determine by October 9, 2023, whether the Piti-Cabras SO2 NAA attained the 2010 SO2 NAAQS by the statutory attainment date of April 9, 2023.

A determination of whether an area's air quality meets applicable standards is generally based upon the most recent three years of complete, quality-assured data gathered at established state and local air monitoring stations (SLAMS) in the NAA and other available information. The EPA's April 23, 2014 memorandum, “Guidance for 1-Hour SO2 Nonattainment Area SIP Submissions,” states, “[t]he EPA will determine whether or not an SO2 nonattainment area has attained the NAAQS based on air quality monitoring data (when available) and air quality dispersion modeling information for the affected area, and/or a demonstration that the control strategy has been fully implemented.” ⁷

⁷ Guidance for 1-Hour SO2 Nonattainment Area SIP Submissions; EPA, April 23, 2014, can be found at https://www.epa.gov/sites/default/files/2016-06/documents/20140423guidance_nonattainment_sip.pdf.

In the case of the Piti-Cabras area, the relevant three years preceding the statutory attainment date are 2020-2022. There are no available SO2 monitoring data from the Piti-Cabras SO2 NAA in this period, and the only modeling results submitted by the Guam Environmental Protection Agency (Guam EPA) were the results from the time of designation, which showed violations of the NAAQS.⁸ The modeling analysis included the largest sources of SO2 emissions in the area and relied upon actual hourly emissions rates from 2011-2013. In addition, as noted above, Guam has not submitted a modeled attainment demonstration or control strategy (via SIP revision) for the NAA.

⁸ For designations technical discussions, see EPA's Technical Support Document, Chapter 11, Section 3, 6-26, at https://www.epa.gov/sites/default/files/2017-08/documents/11_guam_so2_rd3-final.pdf, available in the docket for this action.

In the absence of monitoring data and updated modeling analyses, the EPA is evaluating whether the Piti-Cabras area attained the 2010 1-hour primary SO2 NAAQS by the applicable statutory attainment date of April 9, 2023, based on available modeling, emissions data, and information concerning control strategy implementation.

II. The EPA's Evaluation and Determination

A. Area Characterization

The Piti-Cabras area is located on the western side of the island of Guam, centered on the Piti and Cabras power plants. The Piti facility (also referred to as “MEC” by Guam), consists of Units 8 and 9, and the Cabras facility consists of four units (two of which, Cabras 3 and 4, have ceased operation). These two facilities are the primary sources of SO2 in the area. Nearby, the “TEMES” power plant, commercial marine vessel ports, and the United States Navy (“Navy”) marine vessel port are also significant sources of SO2.

⁹ Id.

¹⁰ SO2 NAAQS Designations Modeling Technical Assistance Document, EPA, August 2016, available at https://www.epa.gov/sites/default/files/2016-04/documents/so2modelingtad.pdf and available in the docket for this action.

B. Evaluation of SO2 Modeling, Emissions Data, and Control Strategy Implementation Information

First, to determine whether the Piti-Cabras area attained the NAAQS, the EPA considered the modeling that was conducted for the designation of the Piti-Cabras area as nonattainment. As noted earlier, the EPA based the nonattainment designation for the Piti-Cabras area on modeling submitted by Guam EPA. In our review of that modeling, as documented in the EPA's Technical Support Document (TSD) ⁹ accompanying the designation, we concluded that the source characterization, modeling parameters, and techniques submitted by Guam EPA for this designation conformed with the EPA's August 2016 guidance document, “SO2 NAAQS Designations Modeling Technical Assistance Document.” ¹⁰

The EPA's designation of the Piti-Cabras area relied on the modeled SO2 emissions for the years 2011-2013. The Piti, Cabras, and TEMES stationary sources, along with marine sources from the commercial and Navy ports, were modeled as the largest sources of SO2 emissions in the Piti-Cabras area. For the stationary sources, SO2 emissions are generated by combusting diesel fuel for electricity generation. Guam Power Authority (GPA), the owner and operator of the Piti, Cabras, and TEMES facilities, compiled the data needed to calculate hourly emissions rates for 2011-2013 based on AP-42 emissions factors and hourly production data for each unit included in the modeling. For maritime sources, SO2 emissions are generated by fuel combustion from docking and hoteling at the commercial and Navy ports. Guam EPA used reports of vessels docking and hoteling at the ports and AP-42 emissions factors to calculate hourly emissions rates to include in the modeling.

The peak modeled receptor design value (DV) from the EPA's designations TSD is summarized in Table 1. The modeling analysis showed that the area was violating the 2010 1-hour primary SO2 NAAQS based on source emissions from 2011-2013, with a modeled DV of 585 µg/m³, nearly three times the value of the 2010 1-hour primary SO2 NAAQS level of 196.4 µg/m³ (equivalent to 75 ppb).

Table 1—Summary of 2011-2013 Peak Modeled Receptor 1-Hour SO2 Design Value for the Piti-Cabras Area ᵃ
Averaging period | Data period | 99th percentile daily maximum 1-hour SO2 concentration (µg/m³): Modeled concentration (including background) | 99th percentile daily maximum 1-hour SO2 concentration (µg/m³): NAAQS level
99th Percentile 1-hour average | 2011-2013 | 585 | ᵇ 196.4
ᵃ Retrieved from EPA's Technical Support Document, Chapter 11, Section 3, 6-26, at https://www.epa.gov/sites/default/files/2017-08/documents/11_guam_so2_rd3-final.pdf, available in the docket for this action.
ᵇ Equivalent to the 2010 SO2 NAAQS of 75 ppb using 2.619 µg/m³ conversion factor.

We note that, on September 24, 2024, GPA sent the EPA draft modeling files intended to support a modeled attainment demonstration for the Piti-Cabras area.¹¹ The EPA is reviewing these files and related information and has not yet determined whether they meet the requirements for such a demonstration. However, we note that, even if the modeling is found to be technically sound, the emissions limits relied upon in that modeling did not take effect under Guam law until after the attainment date, as explained later in Section II.B of this document. Therefore, the results of this modeling cannot be relied upon to determine whether the area attained the NAAQS by the attainment date.

¹¹ See two emails dated September 24, 2024 from Roland T. Gutierrez, Environmental Manager, GPA, to Gale Hoffnagle, Senior Vice President and Technical Director, TRC Corporation, Subject: “SIP Modeling Files,” and from Gale Hoffnagle to Andrew Ledezma, EPA, Subject: “RE: SIP Modeling Files.msg,” included in the docket for this action.

Second, to determine whether the Piti-Cabras area attained the NAAQS, the EPA considered annual SO2 emissions trends for the most significant SO2 sources in the area using emissions inventory information provided by Guam EPA. Table 2 lists the average reported actual SO2 emissions for 2011-2013, which were the emissions used in the air quality modeling underlying the EPA's designation of the area as nonattainment, as well as SO2 emissions for 2020. While the relevant three-year DV period for the April 9, 2023 attainment date was from 2020-2022, we have only received complete actual emissions data for 2020. Therefore, we are considering those emissions because this is the most recent, complete emissions inventory available based on actual emissions from the 2020-2022 DV time period.

Table 2—Annual Emissions From SO2 Sources in the Piti-Cabras Area for 2011-2013 Average Actual Emissions and 2020 Actual Emissions
Facility name | Actual SO2 emissions (tons per year, tpy): 2011-2013 (average) ᵃ | Actual SO2 emissions (tons per year, tpy): 2020 ᵇ
Cabras | 8,891 | 6,816
Piti (MEC) | 4,828 | 2,297
TEMES | 2 | 0.11
Marine Vessels | 76 | 84
Total ᶜ | 13,797 | 9,197
ᵃ Actual SO2 emissions retrieved from EPA's Technical Support Document, Chapter 11, Section 3, 6-26, at https://www.epa.gov/sites/default/files/2017-08/documents/11_guam_so2_rd3-final.pdf, available in the docket for this action.
ᵇ Actual SO2 emissions retrieved from Guam EPA's April 2024 draft SIP, Appendix A, available in the docket for this action.
ᶜ Totals may not be a precise addition of all rows due to rounding.

These data show that some reductions in SO2 emissions did occur prior to the attainment date, as annual emissions from 2020 were 9,197 tpy, approximately 33 percent lower than the 2011-2013 average emissions of 13,797 tpy. However, there is no evidence that we are aware of to suggest that this level of emissions reductions was sufficient to attain the NAAQS given that the modeled 2011-2013 design value was 585 µg/m³, nearly three times the NAAQS level of 196.4 µg/m³. Although the reduction of 4,600 tpy of emissions over this time period likely lowered the design value in 2020-2022, as compared with 2011-2013, additional information would be needed to determine whether such reductions were sufficient to provide for attainment of the NAAQS.

Third, to determine whether the Piti-Cabras area attained the NAAQS, the EPA considered the available information about control strategy implementation. On June 30, 2023, the Guam Legislature adopted Substitute Bill No. 101-37 (COR), “An Act to Repeal and Reenact § 1310 of Article 1, Chapter 1, Title 22 Guam Administrative Rules and Regulations, Relative to Adopting Updated Emission Standards For Sulfur Oxides From Fuel Combustion to Ensure the Island of Guam Meets the National Ambient Air Quality Standards For Sulfur Dioxide Transmitted by the Guam Environmental Protection Agency.” Revised Title 22, Section 1310 of the Guam Administrative Rules and Regulations (“Rule 1310”) sets fuel sulfur content limits of 0.2 percent for Cabras Units 1 and 2, and 0.0015 percent for all other sources except ocean-going vessels. The revised rule took effect on July 12, 2023. Rule 1310 was designed as the control strategy for attainment of the 2010 SO2 NAAQS in the Piti-Cabras area but was not adopted and implemented until after the applicable attainment date of April 9, 2023, indicating that the control strategy that Guam EPA believes is needed to attain the NAAQS was not fully implemented by that date. Furthermore, we note that, while some of the emissions reductions that Guam EPA believes are needed for attainment were required to occur earlier under a consent decree between the United States and GPA,¹² following a modification to the consent decree,¹³ the compliance dates for several of the controls were revised to July 1, 2022 (for Piti Units 8 and 9) and December 31, 2022 (for Cabras Units 1 and 2). Given that these dates were near to or at the end of the 2020-2022 DV period, there is no evidence that the original modeled violations were remedied in time to achieve an attaining design value in the three-year 2020-2022 period.

¹² D. Guam, Case 1:20-cv-00007, Document 5, Filed 04/20/20.

¹³ D. Guam, Case 1:20-cv-00007, Document 7, Filed 01/14/22.

C. Conclusion

We find that the Piti-Cabras area failed to attain the 2010 1-hour primary SO2 NAAQS by the statutory attainment date of April 9, 2023, based on available modeling, emissions data, and information concerning control strategy implementation.

Under CAA section 179(d), if the EPA determines that an area did not attain the NAAQS by the applicable deadline, the responsible air agency is required, within one year from the publication date of the finding, to submit a revised plan for the area demonstrating attainment and containing any additional measures that the EPA may reasonably prescribe that can be feasibly implemented in the area in light of technological achievability, costs, and any non-air quality and other air quality-related health and environmental impacts as required. Under CAA section 179(d)(3), such a revised SIP submission is required to achieve attainment of the 2010 SO2 NAAQS as expeditiously as practicable, but no later than five years from the date of notice of the area's failure to attain (i.e., five years after the EPA publishes a determination in the Federal Register that the area failed to attain the 2010 SO2 NAAQS).

The EPA anticipates that Guam's submission of a complete SO2 attainment plan for the new attainment date in response to this finding of failure to attain would also address the Territory's existing obligations to submit an attainment plan for the 2010 SO2 NAAQS.

III. The EPA's Action

Based on the EPA's review of available evidence described in this document, the EPA finds that the Piti-Cabras area failed to attain the 2010 1-hour primary SO2 NAAQS by the statutory attainment date of April 9, 2023. This determination triggers the requirements of CAA section 179(d) for the Territory of Guam to submit a revision to the Guam SIP for the Piti-Cabras nonattainment area to the EPA within one year after publication of this determination in the Federal Register. The SIP revision must, among other elements, provide for attainment of the 1-hour primary SO2 NAAQS in the Piti-Cabras nonattainment area as expeditiously as practicable but no later than five years after publication of this determination in the Federal Register. This action will not affect the designation status of the area, and the Piti-Cabras area will remain designated nonattainment for the 2010 SO2 NAAQS until the area meets the requirements of the CAA for redesignation and the EPA takes action to redesignate the area. This action addresses the EPA's obligation under CAA section 179(c) to determine if the Piti-Cabras area attained the 2010 1-hour SO2 NAAQS by the April 9, 2023 attainment date.

IV. Statutory and Executive Order Reviews

A. Executive Order 12866: Regulatory Planning and Review, and Executive Order 14094: Modernizing Regulatory Review

This action is not a “significant regulatory action” under the terms of Executive Order 12866 (58 FR 51735, October 4, 1993) and is therefore not subject to review under Executive Order 14094 (88 FR 21879, April 11, 2023).

B. Paperwork Reduction Act (PRA)

This action does not impose an information collection burden under the provisions of the PRA of 1995 (44 U.S.C. 3501 et seq.). This action does not contain any information collection activities and serves only to make a determination that the Piti-Cabras nonattainment area failed to attain the 2010 SO2 primary standard by the April 9, 2023 attainment date.

C. Regulatory Flexibility Act (RFA)

I certify that this action will not have a significant economic impact on a substantial number of small entities under the RFA (5 U.S.C. 601 et seq.). This action will not impose any requirements on small entities. The determination of failure to attain the 2010 1-hour primary SO2 NAAQS, does not create any new requirements beyond what is mandated by the CAA.

D. Unfunded Mandates Reform Act (UMRA)

This action does not contain any unfunded mandate as described in UMRA, 2 U.S.C. 1531-1538 and does not significantly or uniquely affect small governments. The action imposes no enforceable duty on any state, local or tribal governments or the private sector.

E. Executive Order 13132: Federalism

This action does not have federalism implications. It will not have substantial direct effects on the states, on the relationship between the national government and the states, or on the distribution of power and responsibilities among the various levels of government. The division of responsibility between the Federal government and the states for purposes of implementing the NAAQS is established under the CAA.

F. Executive Order 13175: Consultation and Coordination With Indian Tribal Governments

Executive Order 13175 (65 FR 67249, November 9, 2000), requires the EPA to develop an accountable process to ensure “meaningful and timely input by Tribal officials in the development of regulatory policies that have Tribal implications.” This action does not have Tribal implications as specified in Executive Order 13175. This action does not apply on any Indian reservation land, any other area where EPA or an Indian tribe has demonstrated that a Tribe has jurisdiction, or non-reservation areas of Indian country. Thus, Executive Order 13175 does not apply to this action.

G. Executive Order 13045: Protection of Children From Environmental Health and Safety Risks

The EPA interprets Executive Order 13045 (62 FR 19885, April 23, 1997) as applying to those regulatory actions that concern environmental health or safety risks that the EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution, or Use

This action is not subject to Executive Order 13211 (66 FR 28355, May 22, 2001) because it is not a significant regulatory action under Executive Order 12866.

I. National Technology Transfer and Advancement Act (NTTAA)

This action does not involve technical standards. Therefore, the EPA is not considering the use of any voluntary consensus standards.

J. Executive Order 12898: Federal Actions To Address Environmental Justice in Minority Populations and Low-Income Populations

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for communities with EJ concerns.

K. Congressional Review Act

This action is not a rule and is therefore not subject to the CRA. The action is an informal adjudication dealing with the application of specific facts to preestablished discernible criteria.

L. Judicial Review

Under section 307(b)(1) of the CAA, petitions for judicial review of this action must be filed in the United States Court of Appeals for the appropriate circuit by February 18, 2025. Filing a petition for reconsideration by the Administrator of this action does not affect the finality of this action for the purposes of judicial review nor does it extend the time within which a petition for judicial review may be filed, and shall not postpone the effectiveness of this action. This action may not be challenged later in proceedings to enforce its requirements. (See section 307(b)(2).)

Dated: December 10, 2024.
Martha Guzman Aceves,
Regional Administrator, Region IX.

[FR Doc. 2024-29507 Filed 12-18-24; 8:45 am]

BILLING CODE 6560-50-P